DEPARTMENT OF JUSTICE

Antitrust Division

Notice Pursuant to the National Cooperative Research and Production Act of 1993—IMS Global Learning Consortium, Inc.

Correction

In notice document 2011-78 appearing on page 1460 the issue of Monday, January 10, 2011 make the following corrections:

1. The subject of the document should read as set forth above.

2. On page 1460, in the second column, in the fifth and sixth lines, “INS Global Learning Consortium, Inc.” should read “IMS Global Learning Consortium, Inc.”.

3. On the same page, in the third column, in the 15th and 16th lines, “INS Global Learning Consortium, Inc.” should read “IMS Global Learning Consortium, Inc.”.

[FR Doc. C1-2011-78 Filed 1-25-11; 8:45 am]

BILLING CODE 1505-01-D